CONSUMER PRODUCT SAFETY COMMISSION

Submission for OMB Review; Comment Request—Safety Standard for Automatic Residential Garage Door Operators

Correction

In notice document 00-10211 beginning on page 24188 in the issue of Tuesday, April 25, 2000, make the following correction:

On page 24188, in the third column, in the fourth line of the paragraph beginning with Comments:, the date “June 26, 2000” should read “May 25, 2000”.

[FR Doc. C0-10211 Filed 5-1-00; 8:45 am]

BILLING CODE 1505-01-D